LEGAL SERVICES CORPORATION

Sunshine Act Meeting of the Board of Directors

TIME AND DATE: The Board of Directors of the Legal Services Corporation will meet on January 27, 2001. The meeting will begin at 10 a.m. and continue until conclusion of the Board's agenda.

LOCATION: Embassy Suites Hotel, 300 Tallapoosa Street, Montgomery, AL.

STATUS OF MEETING: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c) (10)] and the corresponding provisions of the Legal Services Corporation's implementing regulation [45 CFR § 1622.5(h)]. A copy of the General Counsel's Certification that the closing is authorized by law will be available upon request.

MATTERS TO BE CONSIDERED:

Open Session

1. Approval of agenda.

2. Approval of the minutes of the Board's meeting of November 11, 2000.

3. Approval of the minutes of the Executive Session of the Board's meeting of November 11, 2000.

4. Approval of minutes of the Board's telephonic meeting of November 28, 2000.

5. Scheduled Public Speakers.

6. Chairman's Report.

7. Members' Report.

8. Inspector General's Report.

9. President's Report.

10. Consider and act on the report of the Board's Committee on Provision for the Delivery of Legal Services.

11. Consider and act on the report of the Board's Operations and Regulations Committee.

12. Consider and act on the report of the Board's Finance Committee.

13. Consider and act on the Board's 2000 Annual Performance Reviews Committee's report on the annual evaluation of the Corporation's President.

14. Consider and act on possible dissolution of the Board's 2000 Annual Performance Reviews Committee.

15. Consider and act on adjustment of the President's salary in light of the increase in Level V of the Executive Schedule specified in 5 U.S.C. § 5316.

16. Presentation by John McKay and Tom McWeeney on Strategic Planning performance measures, including the development of performance indicators/performance measurement instruments and the testing of these instruments in the “real world.”

17. Consider and act on the request by the President of LSC for an exception to the Performance/Incentive Awards Policy adopted by the Board on November 20, 1999, so as to allow the making of a cash award—in this instance, The President's Award—to a corporate officer.

18. Election of Board Chair.

19. Election of Vice-Chair.

20. Consider and act on Board committee appointments.

21. Consider and act on proposed changes to the currently scheduled June 2001, September 2001, and November 2001 Board meetings.

22. Consider and act on the Board's meeting schedule, including designation of locations, for calendar year 2002.

Closed Session

23. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

24. Consider and act on the Office of Legal Affairs' report on potential and pending litigation involving LSC.

Open Session

25. Consider and act on other business.

26. Public Comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Elizabeth S-S Cushing, at (202) 336-8800.

January 18, 2001.
Victor M. Fortuno,
Vice President for Legal Affairs, General Counsel & Corporate Secretary.

[FR Doc. 01-2003 Filed 1-18-01; 2:50 pm]

BILLING CODE 7050-01-P